DEPARTMENT OF TRANSPORTATION

Pipeline and Hazardous Materials Safety Administration

[Docket No. PHMSA-2009-0126; Notice No. 12-12]

Advisory Notice: Notice of Intent To Provide Compliance Date Extension for Air-Passenger Notification of Hazardous Material Restrictions

AGENCY: Pipeline and Hazardous Materials Safety Administration (PHMSA), DOT.

ACTION: Advisory notice.

SUMMARY: PHMSA and the Federal Aviation Administration's (FAA) Office of Security and Hazardous Materials Safety hereby provide notification of our intent to extend the compliance date for certain provisions adopted in a January 19, 2011 final rule (PHMSA-2009-0126; 76 FR 3308) by no less than one year beyond the current January 1, 2013 compliance date in a future rulemaking action. This notice is intended to provide the widest dissemination of our planned future action to all potentially affected parties and to allow for development of a collaborative approach to implementing air-passenger notifications between interested government, commercial, and private entities.

FOR FURTHER INFORMATION CONTACT: Michael Stevens, Department of Transportation, Pipeline and Hazardous Materials Safety Administration, Standards and Rulemaking Division (PHH-10), (202) 366-8553, 1200 New Jersey Avenue SE., Washington, DC 20590.

SUPPLEMENTARY INFORMATION:

I. Background

Section 175.25 of the Hazardous Materials Regulations (HMR; 49 CFR Parts 171-180) prescribes the requirements for air-passenger notification of hazardous materials restrictions. One primary purpose for this regulation is to enhance public safety awareness regarding the carriage of hazardous materials onboard aircraft, either as carry-on items or in checked baggage. Improved public safety awareness facilitates passenger compliance with applicable regulatory requirements, thus enhancing overall aviation safety by reducing the likelihood of inappropriate items being transported onboard aircraft. On January 19, 2011, PHMSA amended 49 CFR 175.25 (PHMSA-2009-0126; 76 FR 3308). The amendments included requirements for passenger notification during ticket purchase and flight check-in, and are effective January 1, 2013. While PHMSA has the primary responsibility for issuing 49 CFR regulations, the FAA has primary responsibility for overseeing compliance with these regulations as they pertain to air transport. Since publication of the January 19, 2011 final rule, PHMSA and the FAA have received numerous inquiries regarding specific interpretations of the amended requirements and the acceptability of certain means of compliance with the revised regulations. This notice responds to administrative appeals that request up to a two-year extension of the compliance date of the adopted passenger notification provisions under § 175.25 of the HMR.

II. Public Meeting

Subsequent to issuance of the January 19, 2011 final rule, PHMSA and the FAA received numerous written and oral comments requesting additional time for affected entities to implement the new provisions in a more effective and cooperative manner. As a result, a public meeting was held on August 16, 2012, in Washington, DC, to discuss issues and concerns of participants and regulators alike. Consequently, PHMSA and the FAA jointly announced that we seek further collaboration with the air-passenger transportation community in defining what constitutes compliance with the new provisions, to reduce or eliminate any ambiguities, and to bring more transparency to the process.

III. Conclusion

PHMSA and FAA agree that delaying the full compliance date of revised § 175.25 is warranted, particularly if a delay supports the implementation of more effective methods for increasing passenger awareness of, and compliance with, the HMR. Additionally, we acknowledge that better notification of industry stakeholders is necessary if we wish to gain widespread support of the collaborative approach to implementing effective and value-added solutions as discussed during the August 16, 2012 public meeting.

Therefore, PHMSA and FAA are providing this notification of our intent to extend in a future rulemaking action, the compliance date by no less than one year, beyond the current January 1, 2013 compliance date. We look forward to collaborating with all interested parties as we move forward to address this issue and enhance aviation safety.

Issued in Washington, DC on November 15, 2012 under authority delegated in 49 CFR Part 106.
Magdy El-Sibaie,
Associate Administrator for Hazardous Materials Safety, Pipeline and Hazardous Materials Safety Administration.

[FR Doc. 2012-28252 Filed 11-20-12; 8:45 am]

BILLING CODE 4910-60-P